DEPARTMENT OF HEALTH AND HUMAN SERVICES

Administration for Community Living

Announcing the Intent To Award a Sole Source Supplement to the National Association of Councils on Developmental Disabilities (NACDD)

AGENCY: Administration for Community Living, HHS.

ACTION: Notice.

SUMMARY: The Administration for Community Living (ACL) is announcing the award of a sole-source supplement for the Bridging Aging and Disability Networks cooperative agreement. ACL's Office of Supportive and Caregiver Services (OSCS), Administration on Aging (AoA) is collaborating with the Projects of National Significance, the Administration on Disabilities (AoD) to provide a $180,478 supplement to the Bridging Aging and Disability grant. This grant is awarded to the NACDD, who is partnering with the Institute on Disability and Human Development at the University of Illinois-Chicago, the Lurie Institute for Disability Policy at Brandeis University, The Arc, and US Aging—the national association representing and supporting the network of Area Agencies on Aging (AAAs) and Title VI Native American Aging Programs. The goal of the grant is to strengthen the collaboration between aging and disability networks to better support individuals with intellectual and developmental disabilities (I/DD) and their family caregivers in future planning as they age. The supplemental funding will be used to additionally support aging caregivers of adults with I/DD and will enhance the work of the 17 State Consortia teams to more directly build capacity of AAAs to serve adults with I/DD as they age and their aging caregivers. The administrative supplement for FY 2024 will be in the amount of $180,478, bringing the total award for FY 2024 to $600,000.00.

FOR FURTHER INFORMATION CONTACT: For further information or comments regarding this program supplement, contact Larissa Crossen, U.S. Department of Health and Human Services, Administration for Community Living, telephone (202) 795-7333; email Larissa.crossen@acl.hhs.gov

SUPPLEMENTARY INFORMATION: The purpose of the supplemental funding is to additionally support aging caregivers of adults with I/DD and will enhance the work of the 17 State Consortia teams. A portion of the funding (estimated 50%) will be used to pay for existing workplan activities of the grantee, particularly where there is overlap in the existing work to bridge the aging and disability networks to support aging caregivers of adults with I/DD. The remainder of the funding (estimated to be 50%) will be used to enhance the work of the 17 State Consortia teams to more directly build capacity of AAAs to serve adults with I/DD as they age and their aging caregivers.

Program Name: Bridging Aging and Disabilities Networks.

Recipient: NACDD.

Period of Performance: The supplement award will be issued for the fourth year of a five-year project period, September 30, 2024, through September 29, 2025.

Award Amount: $180,478.

Award Type: Cooperative Agreement.

Statutory Authority: This program is authorized under the Developmental Disabilities Assistance and Bill of Rights Act of 2000, Title I, Subtitle E.

CFDA Number: 93.631 Discretionary Projects.

Basis for Award: NACDD is currently funded to carry out the objectives of this project, Bridging Aging and Disability Networks, and has completed three years of work. ACL believes it is in the best interest of the Federal Government to supplement the current grantee's existing project. Establishing a new grant project at this time would be potentially disruptive to the current work already well under way. Further, it could create unintended duplication of effort and missed opportunities for greater coordination between the aging and disability networks.

Dated: September 16, 2024.
Alison Barkoff,
Principal Deputy Administrator for the Administration for Community Living, performing the delegable duties of the Administrator and the Assistant Secretary for Aging.

[FR Doc. 2024-21498 Filed 9-19-24; 8:45 am]

BILLING CODE 4154-01-P